DEPARTMENT OF STATE

[Public Notice 8779]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments pursuant to sections 36(c) and 36(d), and in compliance with section 36(f), of the Arms Export Control Act.

DATES: Effective Date: As shown on each of the 45 letters.

FOR FURTHER INFORMATION CONTACT: Ms. Lisa V. Aguirre, Directorate of Defense Trade Controls, Department of State, telephone (202) 663-2830; email DDTCResponseTeam@state.gov. ATTN: Congressional Notification of Licenses.

SUPPLEMENTARY INFORMATION: Section 36(f) of the Arms Export Control Act (22 U.S.C. 2778) mandates that notifications to the Congress pursuant to sections 36(c) and 36(d) must be published in the Federal Register when they are transmitted to Congress or as soon thereafter as practicable.

Following are such notifications to the Congress:

September 27, 2013 (Transmittal No. DDTC 13-078)

The Honorable John A. Boehner, Speaker of the House of Representatives.

Dear Mr. Speaker: Pursuant to Section 36(d) of the Arms Export Control Act, I am transmitting, herewith, certification of a proposed license for the export of defense articles, including technical data, and defense services for the manufacture of significant military equipment abroad.

The transaction contained in the attached certification involves the export of defense articles, including technical data, and defense services to HS Wroclaw Sp.Zo.O and Wytwornia Sprzetu Komunicacyjnego Pzl-Rzeszow S.A. of Poland for the design, development, manufacture, production, repair and refurbishment of machined products used in military engines, aircraft, and helicopters.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

September 16, 2013 (Transmittal No. DDTC 13-089)

Honorable John A. Boehner, Speaker of the House of Representatives.

Dear Mr. Speaker: Pursuant to Sections 36(c) of the Arms Export Control Act, I am transmitting, herewith, certification of a proposed export of defense articles, including technical data, and defense services in the amount of $50,000,000 or more.

The transaction contained in the attached certification authorizes BAE Systems to export defense articles, including technical data, and defense services to Agusta Westland, Ltd. and Agusta Westland S.p.A Italy, which are required to support seating systems, restraint systems, cockpit airbag systems, floor armor and associated components provided by BAE Systems to various end users.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

September 27, 2013 (Transmittal No. DDTC 13-100)

Honorable John A. Boehner, Speaker of the House of Representatives.

Dear Mr. Speaker: Pursuant to Section 36(c) and 36(d) of the Arms Export Control Act, I am transmitting, herewith, certification of a proposed license for the manufacture of significant military equipment abroad and the export of defense articles, including technical data, and defense services in the amount of $100,000,000 or more.

The transaction contained in the attached certification involves the export of defense articles, including technical data, and defense services to Japan to support the manufacture, integration, installation, operation, training, testing, maintenance, and repair of nose cones, third stage rocket motors, staging assemblies, second stage rocket motors, and steering control systems/control surface assemblies for the Standard Missile 3-Block IIA Missile for the AEGIS Ballistic Missile Defense System. The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

September 27, 2013 (Transmittal No. DDTC 13-101)

The Honorable John A. Boehner, Speaker of the House of Representatives.

Dear Mr. Speaker: Pursuant to Section 36(d) of the Arms Export Control Act, I am transmitting, herewith, certification of a proposed license for the export of defense articles, including technical data, and defense services for the manufacture of significant military equipment abroad.

The transaction contained in the attached certification involves the export of defense articles, including technical data, and defense services to the United Kingdom and Saudi Arabia to support the manufacture, installation, integration, training, testing, repair, and maintenance of the ARC-210, 629F-11A VHF/UHF communication system to be integrated into Hawker Aircraft in the United Kingdom for the retransfer to and end-use by the Royal Saudi Air Force.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

September 27, 2013 (Transmittal No. DDTC 13-112)

The Honorable John A. Boehner, Speaker of the House of Representatives.

Dear Mr. Speaker: Pursuant to Section 36(c) of the Arms Export Control Act, I am transmitting, herewith, certification of a proposed license amendment for the export of defense articles, including technical data, and defense services in the amount of $50,000,000 or more.

The transaction contained in the attached certification involves the export of defense articles, including technical data, and defense services to Austria, France and Malaysia to support the ongoing design, development, engineering, delivery assembly, installation, integration, inspection, testing, evaluation, training, maintenance, and repair of the Malaysian Air Defense Ground Environment (MADGE) including Sentry-based Sector and Air Defense Operations Centers.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

September 27, 2013 (Transmittal No. DDTC 13-130

The Honorable John A. Boehner, Speaker of the House of Representatives.

Dear Mr. Speaker: Pursuant to Section 36(c) of the Arms Export Control Act, I am transmitting, herewith, certification of a proposed license for the export of defense articles, including technical data, and defense services in the amount of $1,000,000 or more.

The transaction contained in the attached certification involves the export of defense articles, including technical data, and defense services to Chile of safe/semi/auto carbines 5.56x45mm NATO and accessories to the Chilean Police Force.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

November 15, 2013 (Transmittal No. DDTC 13-133

The Honorable John A. Boehner, Speaker of the House of Representatives.

Dear Mr. Speaker: Pursuant to Section 36(c) of the Arms Export Control Act, I am transmitting, herewith, certification of a proposed license for the export of defense articles, including technical data, and defense services in the amount of $100,000,000 or more.

The transaction contained in the attached certification involves the export of defense articles, including technical data, and defense services to Canada for repair, overhaul, conversion, maintenance, assembly, testing, and servicing of TF40B and ETF40 gas turbine engines.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

September 27, 2013 (Transmittal No. DDTC 13-142

The Honorable John A. Boehner, Speaker of the House of Representatives.

Dear Mr. Speaker: Pursuant to Section 40(g)(2) of the Arms Export Control Act, I am transmitting, herewith, certification of a proposed license for the export of defense articles, including technical data, and defense services, 15-days prior to permitting the export, that is necessary for and within the scope of the Presidential waiver to permit the provision of certain defense articles and services to various Syrian opposition forces, organizations implementing Department of State or U.S. Agency for International Development programs and international organizations for their eventual use in Syria.

The transaction contained in the attached certification involves the export of defense articles, including technical data, and defense services to Turkey, Jordan and Syria to support the Chemical and Biological Hazard Preparedness Program.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

November 19, 2013 (transmittal No. DDTC 13-146)

The Honorable John A. Boehner, Speaker of the House of Representatives.

Dear Mr. Speaker: Pursuant to Section 36(c) of the Arms Export Control Act, I am transmitting, herewith, certification of a proposed license for the export of firearm parts and components controlled under Category I of the United States Munitions List in the amount of $1,000,000 or more.

The transaction contained in the attached certification involves the export of various pistols to the Federal Gun Exchange in The Philippines for commercial resale in the Philippines.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Acting Assistant Secretary, Legislative Affairs

September 27, 2013 (Transmittal No. DDTC 13-147

The Honorable John A. Boehner, Speaker of the House of Representatives.

Dear Mr. Speaker: Pursuant to Section 40(g)(2) of the Arms Export Control Act, I am transmitting, herewith, certification of a proposed license for the export of defense articles 15-days prior to permitting the export, which is necessary for and within the scope of the Presidential waiver to permit the provision of certain defense articles and services to various Syrian opposition forces, organizations implementing Department of State or U.S. Agency for International Development programs, and international organizations for the their eventual use in Syria.

The transaction contained in the attached certification involves the export of defense articles to Syria for self-protection of employees of the International Committee of the Red Cross.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

November 19, 2013 (Transmittal No. DDTC 13-177)

The Honorable John A. Boehner, Speaker of the House of Representatives.

Dear Mr. Speaker: Pursuant to Section 40(g)(2) of the Arms Export Control Act, I am transmitting, herewith, certification of a proposed license for the export of defense articles 15 days prior to permitting the export, which is necessary for and within the scope of the Presidential waiver to permit the provision of certain defense articles and services to various Syrian opposition forces, organizations Uimplementing Department of State or U.S. Agency for International Development programs, and international organizations for their eventual use in Syria.

The transaction contained in the attached certification involves the export of defense articles to Syria for self-protection for personnel from the Organization for the Prohibition of Chemical Weapons.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

October 7, 2013 (Transmittal No. DDTC 13-152

The Honorable John A. Boehner, Speaker of the House of Representatives.

Dear Mr. Speaker: Pursuant to Section 40(g)(2) of the Arms Export Control Act, I am transmitting, herewith, certification of a proposed license for the export of defense articles 15-days prior to permitting the export, which is necessary for and within the scope of the Presidential waiver to permit the provision of certain defense articles and services to various Syrian opposition forces, organizations implementing Department of State or U.S. Agency for International Development programs, and international organizations for their eventual use in Syria.

The transaction contained in the attached certification involves the export of defense articles to Syria for self-protection for personnel from the Organization for the Prohibition of Chemical Weapons.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

October 16, 2013 (Transmittal No. 13-090)

The Honorable John A. Boehner, Speaker of the House of Representatives.

Dear Mr. Speaker: Pursuant to Sections 36(c) and 36(d) of the Arms Export Control Act, I am transmitting, herewith, certification of a proposed license for export for the manufacture of significant military equipment abroad and the export of defense articles, including technical data, and defense services in the amount of $50,000,000 or more.

The transaction contained in the attached certification amends an existing agreement that authorizes the export of defense articles, including technical data, and defense services to manufacture and support additional baseline “green” configured S-70i Blackhawk Helicopters.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

October 16, 2013 (Transmittal No. DDTC 13-161)

The Honorable John A. Boehner, Speaker of the House of Representatives.

Dear Mr. Speaker: Pursuant to Section 40(g)(2) of the Arms Export Control Act, I am transmitting, herewith, certification of a proposed license for the export of defense articles 15 days prior to permitting the export, which is necessary for and within the scope of the Presidential waiver to permit the provision of certain defense articles and services to various Syrian opposition forces, organizations implementing Department of State or U.S. Agency for International Development programs, and international organizations for their eventual use in Syria.

The transaction contained in the attached certification involves the export of defense articles to Syria for self-protection for personnel from the Organization for the Prohibition of Chemical Weapons.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

October 11, 2013 (Transmittal No. DDTC 13-116)

The Honorable John A. Boehner, Speaker of the House of Representatives.

Dear Mr. Speaker: Pursuant to Section 36(d) of the Arms Export Control Act, I am transmitting, herewith, certification of a proposed license for the export of defense articles, including technical data, and defense services for the manufacture of significant military equipment abroad.

The transaction contained in the attached certification involves the export of defense articles, including technical data, and defense services to the United Kingdom to establish a manufacturing capability for Associated Objects for the Missile Defense Agency's Targets and Countermeasures Program.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

October 11, 2013 (Transmittal No. DDTC 13-119)

The Honorable John A. Boehner, Speaker of the House of Representatives.

Dear Mr. Speaker: Pursuant to Section 36(c) of the Arms Export Control Act, I am transmitting, herewith, certification of a proposed export of defense articles, including technical data, and defense services in the amount of $100,000,000 or more.

The transaction contained in the attached certification authorizes the export of defense articles, including technical data, defense services and manufacture know-how, manufacturing assistance, and training to manufacture, assemble, and deliver certain F119 and F135 engine non-metallic parts and components for end use by the United States.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

October 22, 2013 (Transmittal No. DDTC 13-135)

The Honorable John A. Boehner, Speaker of the House of Representatives.

Dear Mr. Speaker: Pursuant to Section 36(c) of the Arms Export Control Act, I am transmitting, herewith, certification of a proposed license for the export of firearm parts and components controlled under Category I of the United States Munitions List in the amount of $1,000,000 or more.

The transaction contained in the attached certification involves the transfer of technical information and services necessary for integration, operation, maintenance training, and follow-on support of the 7.62mm Automatic Chain Gun system to Norway in support of the CV9030 vehicle upgrade effort.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

October 22, 2013 (Transmittal No. DDTC 13-160)

The Honorable John A. Boehner, Speaker of the House of Representatives.

Dear Mr. Speaker: Pursuant to Section 40(g)(2) of the Arms Export Control Act, I am transmitting, herewith, certification of a proposed license for the export of defense articles 15 days prior to permitting the export, which is necessary for and within the scope of the Presidential waiver to permit the provision of certain defense articles and services to various Syrian opposition forces, organizations implementing Department of State or U.S. Agency for International Development programs, and international organizations for their eventual use in Syria.

The transaction contained in the attached certification involves the export of defense articles to Syria for self-protection for personnel from the Organization for the Prohibition of Chemical Weapons.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 6, 2013 (Transmittal No. DDTC 13-0104)

The Honorable John A. Boehner, Speaker of the House of Representatives.

Dear Mr. Speaker: Pursuant to Sections 36(c) and 36(d) of the Arms Export Control Act, I am transmitting, herewith, certification of a proposed license for export for the manufacture of significant military equipment abroad and the export of defense articles, including technical data, and defense services in the amount of $50,000,000 or more.

The transaction contained in the attached certification involves the export of defense services, technical data and defense articles for the manufacture in Israel of the F-16 components to include the IAI-designed F-16 conformal fuel tanks.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 8, 2013 (Transmittal No. DDTC 13-153)

Dear Mr. Speaker: Pursuant to Section 36(c) of the Arms Export Control Act, I am transmitting, herewith, certification of a proposed manufacturing license for the export of defense articles, including technical data, and defense services in the amount of $100,000,000 or more.

The transaction contained in the attached certification involves the export of defense articles, including technical data, and defense services to Canada and Germany to support the manufacture of aircraft parts and components for the F110, F101, F118, F404, F414, T700, TF34, and TF39 aircraft engines.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 8, 2013 (Transmittal No. DDCT 13-157)

The Honorable John A. Boehner, Speaker of the House of Representatives.

Dear Mr. Speaker: Pursuant to Section 36(c) of the Arms Export Control Act, I am transmitting, herewith, certification of a proposed manufacturing license for export of defense articles, including technical data, and defense services in the amount of $100,000,000 or more.

The transaction contained in the attached certification authorizes the export of defense articles, including technical data, and defense services to support the manufacture of bearings for Sikorsky H-60/S-70, UH-60M, S-70i, H-53, H53E and H-3/H-61 helicopters for return to the United States.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 7, 2013 (Transmittal No. DDTC 13-175)

The Honorable John A. Boehner, Speaker of the House of Representatives.

Dear Mr. Speaker: Pursuant to Section 40(g)(2) of the Arms Export Control Act, I am transmitting, herewith, certification of a proposed license for the export of defense articles 15 days prior to permitting the export, which is necessary for and within the scope of the Presidential waiver to permit the provision of certain defense articles and services to various Syrian opposition forces, organizations implementing Department of State or U.S. Agency for International Development programs, and international organizations for their eventual use in Syria.

The transaction contained in the attached certification involves the export of defense articles to Syria for self-protection for personnel from the World Health Organization.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 15, 2013 (Transmittal No. DDTC 13-133)

The Honorable John A. Boehner, Speaker of the House of Representatives.

Dear Mr. Speaker: Pursuant to Section 36(c) of the Arms Export Control Act, I am transmitting, herewith, certification of a proposed license for the export of defense articles, including technical data, and defense services in the amount of $100,000,000 or more.

The transaction contained in the attached certification involves the export of defense articles, including technical data, and defense services to Canada for repair, overhaul, conversion, maintenance, assembly, testing, and servicing of TF40B and ETF40 gas turbine engines.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 13, 2013 (Transmittal No. DDTC 13-075)

The Honorable John A. Boehner, Speaker of the House of Representatives.

Dear Mr. Speaker: Pursuant to Sections 36(c) of the Arms Export Control Act, I am transmitting, herewith, certification of a proposed export of defense articles, including technical data, and defense services in the amount of $50,000,000 or more.

The transaction contained in the attached certification authorizes the export of defense articles, defense services, and technical data to the Government of India for aircraft engines, field service support, organizational, intermediate and depot level maintenance, and participation in the flight test program for the F404-GE-IN20 and F404-GE-F2J3 aircraft engines for end use by the Indian Air Force and Navy.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 12, 2013 (Transmittal No. DDTC 13-126)

The Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, including technical data, and defense services to Saudi Arabia, United Arab Emirates and the United Kingdom to support the integration, installation, operation, training, testing, maintenance, and repair of the Saudi Arabia National Guard Rear Link Communications System.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 18, 2013 (Transmittal No. DDTC 13-129

The Honorable John A. Boehner, Speaker of the House of Representatives.

Dear Mr. Speaker: Pursuant to Section 36(c) of the Arms Export Control Act, I am transmitting, herewith, certification of a proposed license for the export of firearm parts and components controlled under Category I of the United States Munitions List in amount of $1,000,000 or more.

The transaction contained in the attached certification involves the export of pistols and revolvers with magazines and accessories to the Philippines for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 12, 2013 (Transmittal No. DDTC 13-131)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $50,000,000 or more.

The transaction contained in the attached certification involves the export of defense articles, including technical data, and defense services to Belgium, France, Germany, Spain, Turkey, and the United Kingdom for A400M Aircraft Oxygen Systems for use by the Governments of Belgium, France, Germany, Luxembourg, Malaysia, South Africa, Spain, Turkey, and the United Kingdom, and will be marketed to over 70 other countries.

The United States Government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 18, 2013 (Transmittal No. DDTC 13-132)

The Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, including technical data, and defense services to Turkey to support assembly, inspection, and test of F110-GE-129D engines for F-16 aircraft for end-use by the Ministry of Defense of the Sultanate of Oman.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 13, 2013 (Transmittal No. DDTC 13-144)

The Honorable John A. Boehner, Speaker of the House of Representatives.

Dear Mr. Speaker: Pursuant to Section 36(c) of the Arms Export Control Act, I am transmitting, herewith, certification of a proposed license for the export of defense articles, including technical data, and defense services in the amount of $100,000,000 or more.

The transaction contained in the attached certification involves the export of defense articles, including technical data, and defense services to Japan to support the design, manufacture, maintenance, and repair of military flight simulation and training devices.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 8, 2013 (Transmittal No. DDTC 13-153)

The Honorable John A. Boehner, Speaker of the House of Representatives.

Dear Mr. Speaker: Pursuant to Section 36(c) of the Arms Export Control Act, I am transmitting, herewith, certification of a proposed manufacturing license for the export of defense articles, including technical data, and defense services in the amount of $100,000,000 or more.

The transaction contained in the attached certification involves the export of defense articles, including technical data, and defense services to Canada and Germany to support the manufacture of aircraft parts and components for the F110, F101, F118, F404, F414, T700, TF34, and TF39 aircraft engines.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 31, 2013 (Transmittal No. DDTC 13-158)

The Honorable John A. Boehner, Speaker of the House of Representatives.

Dear Mr. Speaker: Pursuant to Section 36(c) and 36 (d) of the Arms Export Control Act, I am transmitting, herewith, certification for the manufacture of significant military equipment abroad and the export of defense articles, including technical data, and defense services in the amount of $100,000,000 or more.

The transaction contained in the attached certification authorizes the export of defense articles, including technical data, and defense services to support the manufacture of engine parts for the F110-GE-100/100C/129 aircraft engines for end use by the Turkish Air Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 30, 2013 (Transmittal No. DDTC 13-166)

The Honorable John A. Boehner, Speaker of the House of Representatives.

Dear Mr. Speaker: Pursuant to Sections 36(c) and (d) of the Arms Export Control Act, I am transmitting, herewith, certification of a proposed license amendment for the manufacture of significant military equipment abroad and the export of defense articles, including technical data, and defense services in the amount of $100,000,000 or more.

The transaction contained in the attached certification involves the export of defense articles, including technical data, and defense services to Japan to support the manufacture, integration, installation, of the Japanese Patriot PAC-3 missile program.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 12, 2013 (Transmittal No. DDTC 13-174

The Honorable John A. Boehner, Speaker of the House of Representatives.

Dear Mr. Speaker: Pursuant to Section 36(c) of the Arms Export Control Act, I am transmitting, herewith, certification of a proposed license for the export of firearm parts and components controlled under Category I of the United States Munitions List in amount of $1,000,000 or more.

The transaction contained in the attached certification involves the export of Cal .9mm, Cal .45 ACP, Cal .40 S&W, Cal .380 ACP, Cal .25 ACP and Cal .22LR semi-automatic pistols to the Philippines for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 17, 2013 (Transmittal No. DDTC 13-138)

The Honorable John A. Boehner, Speaker of the House of Representatives.

Dear Mr. Speaker: Pursuant to Section 36(c) of the Arms Export Control Act, I am transmitting, herewith, certification of a proposed license amendment for the export of defense articles, including technical data, and defense services in the amount of $50,000,000 or more.

The transaction contained in the attached certification involves the export of defense articles, including technical data, and defense services to Saudi Arabia to support the operations, maintenance, and repair of the HAWK and Patriot Air Defense Missile Systems.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 17, 2013 (Transmittal No. DDTC 13-139)

The Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, including technical data, and defense services to Japan to support the design, manufacture, launch and on-orbit test of JCSAT-14 satellite system.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 18, 2013 (Transmittal No. DDTC 13-141)

The Honorable John A. Boehner, Speaker of the House of Representatives.

Dear Mr. Speaker: Pursuant to Section 36(c) of the Arms Export Control Act, I am transmitting, herewith, certification of a proposed license amendment for the export of defense articles, including technical data, and defense services in the amount of $50,000,000 or more.

The transaction contained in the attached certification involves the export of defense articles, including technical data, and defense services to Saudi Arabia to support the integration, installation, operation, training, testing, maintenance, and repair of the Mine Resistant Ambush Protected All-Terrain Vehicles(M-ATV).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 18, 2013 (Transmittal No. DDTC 13-168)

The Honorable John A. Boehner, Speaker of the House of Representatives.

Dear Mr. Speaker: Pursuant to Section 36(c) of the Arms Export Control Act, I am transmitting, herewith, certification of a proposed license for the export of firearm parts and components controlled under Category I of the United States Munitions List in the amount of $1,000,000 or more.

The transaction contained in the attached certification involves the export of M134D-H 7.62x51mm Gatling Gun Hybrid and accessories to the Colombian Navy.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 9, 2013 (Transmittal No. DDTC 13-105)

The Honorable John A. Boehner, Speaker of the House of Representatives.

Dear Mr. Speaker: Pursuant to Sections 36(c) of the Arms Export Control Act, I am transmitting, herewith, certification of a proposed export of defense articles, including technical data, and defense services in the amount of $50,000,000 or more.

The transaction contained in the attached certification authorizes the export of defense articles, including technical data and defense services to provide Contractor Logistics Support (CLS) services to support the F-16IA Weapon System in Iraq.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Acting Assistant Secretary, Legislative Affairs

December 10, 2013 (Transmittal No. DDTC 13-134)

The Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, to include technical data, and defense services to support the launch of the Mexsat communications satellite.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 6, 2013 (Transmittal No. DDTC 13-145)

Dear Mr. Speaker: Pursuant to Section 36(c) of the Arms Export Control Act, I am transmitting, herewith, certification of a proposed license for the export of firearm parts and components controlled under Category I of the United States Munitions List in the amount of $1,000,000 or more.

The transaction contained in the attached certification involves the export of machine guns, grenade launchers, and tactical rifle systems to Panama for use by the Panama National Border Police.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 6, 2013 (Transmittal No. DDTC 13-148

The Honorable John A. Boehner, Speaker of the House of Representatives.

Dear Mr. Speaker: Pursuant to Section 36(c) of the Arms Export Control Act, I am transmitting, herewith, certification of a proposed export of defense articles, including technical data, and defense services in the amount of $100,000,000 or more.

The transaction contained in the attached certification authorizes the export of defense articles, including technical data, and defense services to facilitate the System Development and Demonstration (SDD), and Low Rate Initial Production (LRIP) of the F-35 Joint Strike Fighter (JSF) Program for all variants of the F-35 air systems.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 10, 2013 (Transmittal No. DDTC 13-149)

The Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, to include technical data, and defense services to France, Italy, Kazakhstan, Russia, and Sweden to support the Proton launch of the Yamal 601 Commercial Communications Satellite from the Baikonur Cosmodrome in Kazakhstan.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 3, 2013 (Transmittal No. DDTC 13-140)

The Honorable John A. Boehner, Speaker of the House of Representatives.

Dear Mr. Speaker: Pursuant to Section 36(c) of the Arms Export Control Act, I am transmitting, herewith, certification of a proposed license amendment for the export of defense articles, including technical data, and defense services in the amount of $100,000,000 or more.

The transaction contained in the attached certification involves the export of defense articles, including technical data, and defense services to the Republic of Korea to support the integration, installation, operation, training, testing, maintenance, and repair of the Rolling Airframe Missile (RAM) Guided Missile Weapon System (GMWS).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 3, 2013 (Transmittal No. DDTC 13-150)

The Honorable John A. Boehner, Speaker of the House of Representatives.

Dear Mr. Speaker: Pursuant to Section 36(c) of the Arms Export Control Act, I am transmitting, herewith, certification of a proposed amendment to a technical assistance agreement to include the export of defense articles, including technical data, and defense services in the amount of $100,000,000 or more.

The transaction contained in the attached certification involves the export of defense articles, including technical data, and defense services to Israel to support the maintenance, repair, and overhaul at the Organizational, Intermediate, and Depot Level I of the J52 and F100 engines owned and operated by the GOI-MOD in order to maintain the operational readiness of their fleet of A-4, F-15, and F-16 military aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 3, 2013 (Transmittal No. DDTC 13-151)

The Honorable John A. Boehner, Speaker of the House of Representatives.

Dear Mr. Speaker: Pursuant to Section 36(c) of the Arms Export Control Act, I am transmitting, herewith, certification of a proposed amendment to a technical assistance agreement to include the export of defense articles, including technical data, and defense services to include significant military equipment in the amount of $50,000,000 or more.

The transaction contained in the attached certification involves the export of defense articles, including technical data, and defense services to Mexico's Secretaria De La Defensa Nacional for the acquisition of six new T-6C aircraft to support the maintenance, training, and logistics support that include the ground based training system, spare inventory, and other support items for the aircraft.

The United States Government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 3, 2013 (Transmittal No. DDTC 13-156)

The Honorable John A. Boehner, Speaker of the House of Representatives.

Dear Mr. Speaker: Pursuant to Section 36(c) of the Arms Export Control Act, I am transmitting, herewith, certification of a proposed manufacturing license for export of defense articles, including technical data, and defense services in the amount of $50,000,000 or more.

The transaction contained in the attached certification authorizes the export of defense articles, including technical data, and defense services to support the design, manufacture, sale, modification, maintenance, overhaul, and repair, of the A400M propeller system, and components for the A400M aircraft to be sold to various government end users.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 3, 2013 (Transmittal No. DDTC 13-159)

The Honorable John A. Boehner, Speaker of the House of Representatives.

Dear Mr. Speaker: Pursuant to Sections 36(c) of the Arms Export Control Act, I am transmitting, herewith, certification of a proposed manufacture license for export of defense articles, including technical data, and defense services in the amount of $50,000,000 or more.

The transaction contained in the attached certification authorizes the export of defense articles, including technical data, and defense services to support the manufacture, sale, assembly, integration, quality assurance, inspection, troubleshooting, servicing, modification, test, calibration, maintenance, overhaul, repair of propellers, and parts for the Atlantique (ATL1 and ATL2) and Transall aircraft for end use by various governments.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

December 3, 2013 (Transmittal No. DDTC 13-172)

The Honorable John A. Boehner, Speaker of the House of Representatives.

Dear Mr. Speaker: Pursuant to Section 36(c) of the Arms Export Control Act, I am transmitting, herewith, certification of a proposed amendment to a manufacturing license agreement for export of defense articles, including technical data, and defense services in the amount of $100,000,000 or more.

The transaction contained in the attached certification authorizes the export of defense articles, including technical data, and defense services to support the manufacture, assembly, and inspection of F-16 and F-2 fuselage parts, and components for end use by Belgium, Denmark, Greece, Italy, Japan, The Netherlands, Norway, Poland, Portugal, Turkey, and the United States.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 27, 2013 (Transmittal No. DDTC 13-165)

The Honorable John A. Boehner, Speaker of the House of Representatives.

Dear Mr. Speaker: Pursuant to Section 36(c) of the Arms Export Control Act, I am transmitting, herewith, certification of a proposed license for the export of firearm parts and components controlled under Category I of the United States Munitions List in the amount of $1,000,000 or more.

The transaction contained in the attached certification involves the export of various hunting rifles and accessories to Gun City in New Zealand for commercial resale in New Zealand.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 21, 2013 (Transmittal No. DDTC 13-128)

The Honorable John A. Boehner, Speaker of the House of Representatives.

Dear Mr. Speaker: Pursuant to Sections 36(c) and 36(d) of the Arms Export Control Act, I am transmitting, herewith, certification of a proposed license for the manufacture of significant military equipment abroad and the export of defense articles, including technical data, and defense services in the amount of $50,000,000 or more.

The transaction contained in the attached certification involves the export of defense articles, including, technical data, and defense services for the manufacture of the T-50i aircraft in the Republic of Korea for end-use by the Government of Indonesia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

November 21, 2013 (Transmittal No. DDTC 13-154)

The Honorable John A. Boehner, Speaker of the House of Representatives.

Dear Mr. Speaker: Pursuant to Section 36(c) of the Arms Export Control Act, I am transmitting, herewith, certification of a proposed license for the export of defense articles, including technical data, and defense services in the amount of $100,000,000 or more.

The transaction contained in the attached certification involves the export of defense articles, including technical data, and defense services to Australia for the development and production of the Mk 234 NULKA Electronic Decoy Cartridge (EDC) and the Mk 250 NULKA Training Aid for end-use by the Department of Defence of the Commonwealth of Australia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Acting Assistant Secretary, Legislative Affairs

November 21, 2013 (Transmittal No. DDTC 13-163)

The Honorable John A. Boehner, Speaker of the House of Representatives.

Dear Mr. Speaker: Pursuant to Section 36(c) of the Arms Export Control Act, I am transmitting, herewith, certification of a proposed license for the export of defense articles, including technical data, and defense services in the amount of $100,000,000 or more.

The transaction contained in the attached certification involves the export of defense articles, including technical data, and defense services to Japan to support the integration, installation, operation, training, testing, intermediate level maintenance, and repair of the Maverick AGM-65 Weapon System with P-1 aircraft for the Japan Maritime Self Defense Force (JMSDF).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

October 16, 2013 (Transmittal No. DDTC 13-161)

The Honorable John A. Boehner, Speaker of the House of Representatives.

Dear Mr. Speaker: Pursuant to Section 40(g) (2) of the Arms Export Control Act, I am transmitting, herewith, certification of a proposed license for the export of defense articles 15 days prior to permitting the export, which is necessary for and within the scope of the Presidential waiver to permit the provision of certain defense articles and services to various Syrian opposition forces, organizations implementing Department of State or U.S. Agency for International Development programs, and international organizations for their eventual use in Syria.

The transaction contained in the attached certification involves the export of defense articles to Syria for self-protection for personnel from the Organization for the Prohibition of Chemical Weapons.

The United States government is prepared to license the export of these items having taken into account political, military, economic, human rights, and arms control considerations.

More detailed information is contained in the formal certification which, though unclassified, contains business information submitted to the Department of State by the applicant, publication of which could cause competitive harm to the United States firm concerned.

Sincerely,

Thomas B. Gibbons

Acting Assistant Secretary, Legislative Affairs

February 7, 2014 (Transmittal No. DDTC 13-188)

The Honorable John A. Boehner, Speaker of the House of Representatives.

Dear Mr. Speaker: Pursuant to Section 36(d) of the Arms Export Control Act, I am transmitting, herewith, certification of a proposed license amendment for the export of defense articles, including technical data, and defense services for the manufacture of significant military equipment abroad.

The transaction contained in the attached certification involves the export of defense articles, including technical data, and defense services to the Republic of Korea to support the manufacture, integration, installation, operation, training, testing, maintenance, and repair of Semi Auto Pistols firearm barrels, slides and frames to later assemble into firearms for commercial sales.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

February 5, 2014 (Transmittal No. DDTC 13-186)

The Honorable John A. Boehner, Speaker of the House of Representatives.

Dear Mr. Speaker: Pursuant to Sections 36(c) of the Arms Export Control Act, I am transmitting, herewith, certification of a proposed license amendment for the export of defense articles, including technical data, and defense services in the amount of $50,000,000 or more.

The transaction contained in the attached certification involves the transfer of defense services, to include technical data, and defense services to support the Proton integration and launch of the Eutelsat 9B Commercial Communication Satellite from the Baikonur Cosmodrome in Kazakhstan.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

February 5, 2014 (Transmittal No. DDTC 13-187)

The Honorable John A. Boehner, Speaker of the House of Representatives.

Dear Mr. Speaker: Pursuant to Section 36(c) of the Arms Export Control Act, I am transmitting, herewith, certification of a proposed license for the export of defense articles, including technical data, and defense services in the amount of $100,000,000 or more.

The transaction contained in the attached certification involves the export of defense articles, including technical data, and defense services to Japan for the manufacture, use and repair of F-15J aircraft flight simulators.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

February 5, 2014 (Transmittal No. DDTC 13-179)

The Honorable John A. Boehner, Speaker of the House of Representatives.

Dear Mr. Speaker: Pursuant to Section 36(c) of the Arms Export Control Act, I am transmitting, herewith, certification of a proposed license for the export of defense articles, including technical data, and defense services in the amount of $50,000,000 or more.

The transaction contained in the attached certification involves the export of defense articles, to include technical data, and defense services to Australia, Canada, France, Germany, Italy, Kazakhstan, the Netherlands, Russia, Switzerland, and the United Kingdom to support the design, manufacture, test, and delivery of the INMARSAT-5 commercial communications satellites.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

February 5, 2014 (Transmittal No. DDTC 13-176)

The Honorable John A. Boehner, Speaker of the House of Representatives.

Dear Mr. Speaker: Pursuant to Section 36(c) of the Arms Export Control Act, I am transmitting, herewith, certification of a proposed license for the export of defense articles, to include technical data, and defense services in the amount of $50,000,000 or more.

The transaction contained in the attached certification involves the transfer of defense articles, to include technical data, and defense services to support the Eutelsat E65WA Commercial Communication Satellite program.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

January 24, 2014 (Transmittal No. DDTC 13-182)

The Honorable John A. Boehner, Speaker of the House of Representatives.

Dear Mr. Speaker: Pursuant to Section 36(c) and (d) of the Arms Export Control Act, I am transmitting, herewith, certification of a proposed license for export for the manufacture of significant military equipment abroad and the export of defense articles, including technical data, and defense services in the amount of $50,000,000 or more.

The transaction contained in the attached certification involves the export of defense articles, including technical data, and defense services to the United Kingdom, Italy and Saudi Arabia to support the manufacture, integration, installation, operation, training, testing, maintenance, and repair of the Enhanced Paveway II and Paveway IV GPS Aided Inertial Navigation System (GAINS).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

January 24, 2014 (Transmittal No. DDTC 13-183)

The Honorable John A. Boehner, Speaker of the House of Representatives.

Dear Mr. Speaker: Pursuant to Section 36(c) of the Arms Export Control Act, I am transmitting, herewith, certification of a proposed license amendment for the export of defense articles, including technical data, and defense services in the amount of $50,000,000 or more.

The transaction contained in the attached certification involves the export of defense articles, including technical data, and defense services to the United Kingdom, Italy, Spain, and Saudi Arabia to support the integration, installation, operation, training, testing, maintenance, and repair of the Paveway II and IIIs, Enhanced Paveway II and IIIs, and Paveway IV Weapons Systems for the Royal Saudi Air Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

January 22, 2014 (Transmittal No. DDTC13-155)

The Honorable John A. Boehner, Speaker of the House of Representatives.

Dear Mr. Speaker: Pursuant to Section 36(c) of the Arms Export Control Act, I am transmitting, herewith, certification of a proposed export of defense articles, including technical data, and defense services in the amount of $50,000,000 or more.

The transaction contained in the attached certification authorizes the export of defense articles, including technical data, and defense services to support the delivery, operation, and maintenance of Sikorsky S-70B model helicopters for the Government of Singapore.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

Lisa Aguirre,
Chief of Staff, Bureau of Political-Military Affairs, U.S. Department of State.

[FR Doc. 2014-15014 Filed 6-25-14; 8:45 am]

BILLING CODE 4710-25-P